DEPARTMENT OF THE INTERIOR

Bureau of Land Management

[LLUT980500 L10200000 XH0000 LXSIOVHD0000]

Notice of Mailing Address Change for the Utah State Office, Salt Lake City, UT

AGENCY: Bureau of Land Management, Interior.

ACTION: Notice.

SUMMARY: The mailing address for the Bureau of Land Management (BLM), Utah State Office, in Salt Lake City, Utah, will be changing from P.O. Box 45155-0155 to 440 West 200 South, Suite 500, Salt Lake City, Utah 84101-1345. The proposed date will be on or about February 1, 2013. The office location address remains the same.

FOR FURTHER INFORMATION CONTACT: Nancy Allen, Business Manager, Support Services, at (801) 539-4244, BLM Utah State Office, Salt Lake City, Utah 84101.

Jenna Whitlock,
Associate State Director.

[FR Doc. 2013-02099 Filed 1-30-13; 8:45 am]

BILLING CODE 4310-DQ-P